SOCIAL SECURITY ADMINISTRATION

20 CFR Part 404

Federal Old-Age, Survivors and Disability Insurance (1950- )

CFR Correction

In Title 20 of the Code of Federal Regulations, parts 400 to 499, revised as of April 1, 2000, in part 404, subpart P, appendix 1, beginning on page 449, in section 9.08 following paragraph D, remove the tables up to section 10.00.

[FR Doc. 00-55522 Filed 2-1-01; 8:45 am]

BILLING CODE 1505-01-D